SECURITIES AND EXCHANGE COMMISSION

Proposed Collection; Comment Request

Upon Written Request, Copies Available From: Securities and Exchange Commission, Office of Filings and Information Services, Washington, DC 20549

Extension

Regulation S, OMB Control No. 3235-0357, SEC File No. 270-315

Rule 13e-3 and Schedule 13E-3, OMB Control No. 3235-0007, SEC File No. 270-1

Form 12b-25, OMB Control No. 3235-0058, SEC File No. 270-71

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Regulation S governs offers and sales of securities made outside the United States without registration under the Securities Act of 1933. Regulation S is assigned one burden hour for administrative convenience because the regulation simply prescribes the disclosure that must appear in other filings under the federal securities laws.

Rule 13e-3 prescribes the filing, disclosure and dissemination requirements in connection with a going private transaction by an issuer or an affiliate. Schedule 13E-3 provides shareholders and the marketplace with information concerning going private transactions that are important in determining how to respond to such transactions. Approximately 300 issuers file Schedule 13E-3 annually and it takes approximately 139.25 hours per response for a total of 41,775 annual burden hours. It is estimated that 25% of the 41,775 total burden hours (10,444 hours) would be prepared by the company.

Form 12b-25 provides notice to the Commission and the marketplace that a public company will be unable to timely file a required periodic report. Form 12b-25 is filed by publicly held companies. Approximately 6,000 issuers file For 12b-25 and it takes approximately 2.5 hours per response for a total of 15,000 burden hours.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW., Washington, DC 20549.

Dated: September 4, 2001.
Margaret H. McFarland,
Deputy Secretary.

[FR Doc. 01-23438 Filed 9-19-01; 8:45 am]

BILLING CODE 8010-01-M